DEPARTMENT OF HEALTH AND HUMAN SERVICES

National Institutes of Health

National Heart, Lung, and Blood Institute; Amended Notice of Meeting

Notice is hereby given of a change in the meeting of the National Heart, Lung, and Blood Institute Special Emphasis Panel, December 5, 2005, 12 p.m. to December 5, 2005, 3 p.m., National Institutes of Health, 6701 Rockledge Drive, Bethesda, MD 20892 which was published in the Federal Register on November 16, 2005, 70 FR 69579.

The meeting will be held on December 7, 2005 and will start at 9 a.m. The meeting is closed to the public.

Dated: November 23, 2005.
Nancy Middendorf,
Acting Director, Office of Federal Advisory Committee Policy.

[FR Doc. 05-23583 Filed 12-2-05; 8:45 am]

BILLING CODE 4140-01-M